DEPARTMENT OF HEALTH AND HUMAN SERVICES

National Institutes of Health

Center for Scientific Review; Amended Notice of Meeting

Notice is hereby given of a change in the meeting of the Biophysics of Neural Systems Study Section, October 2, 2008, 8 am to October 3, 2008, 5 pm, One Washington Circle Hotel, One Washington Circle, Washington, DC 20037 which was published in the Federal Register on September 9, 2008, 73 FR 52395-52397.

The meeting will be held one day only October 2, 2008, from 8 am to 8 pm. The meeting location remains the same. The meeting is closed to the public.

Dated: September 15, 2008.
Jennifer Spaeth,
Director, Office of Federal Advisory Committee Policy.

[FR Doc. E8-22055 Filed 9-19-08; 8:45 am]

BILLING CODE 4140-01-M